DEPARTMENT OF TRANSPORTATION

Federal Aviation Administration

14 CFR Part 39

[Docket No. FAA-2013-0466; Directorate Identifier 2012-NM-156-AD]

RIN 2120-AA64

Airworthiness Directives; Dassault Aviation Airplanes

AGENCY: Federal Aviation Administration (FAA), DOT.

ACTION: Notice of proposed rulemaking (NPRM).

SUMMARY: We propose to supersede airworthiness directive (AD) 2002-23-19, which applies to all Dassault Aviation Model Falcon 2000 series airplanes. That AD currently requires repetitive operational tests, repetitive measurements, and repetitive replacement of certain jackscrews. Since we issued that AD, the manufacturer revised the airplane maintenance manual (AMM) maintenance requirements and airworthiness limitations. This proposed AD would require revising the maintenance program to incorporate new or revised maintenance requirements and airworthiness limitations. We are proposing this AD to prevent reduced controllability of the airplane.

DATES: We must receive comments on this proposed AD by August 26, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Dassault Falcon Jet, P.O. Box 2000, South Hackensack, NJ 07606; telephone 201-440-6700; Internet http://www.dassaultfalcon.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; phone: 425-227-1137; fax: 425-227-1149.

SUPPLEMENTARY INFORMATION:

Comments Invited

We invite you to send any written relevant data, views, or arguments about this proposed AD. Send your comments to an address listed under the ADDRESSES section. Include “Docket No. FAA-2013-0466; Directorate Identifier 2012-NM-156-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On November 19, 2002, we issued AD 2002-23-19, Amendment 39-12963 (67 FR 71452, December 2, 2002), for all Dassault Aviation Model Falcon 2000 airplanes. (That AD superseded AD 99-14-07, Amendment 39-11218 (64 FR 36561, July 7, 1999)). AD 2002-23-19 requires repetitive operational tests of the flap asymmetry detection system, repetitive replacement of the inboard flap jackscrews, and repetitive measurement of the screw/nut play of the jackscrews on the inboard and outboard flaps.

Since we issued AD 2002-23-19, we have determined that existing maintenance requirements and airworthiness limitations are inadequate and additional inspections are necessary to address the identified unsafe condition. The European Aviation Safety Agency (EASA), which is the Technical Agent for the Member States of the European Community, has issued EASA Airworthiness Directive 2012-0156, dated August 23, 2012 (referred to after this as the Mandatory Continuing Airworthiness Information, or “the MCAI”), to correct an unsafe condition for the specified products. The MCAI states:

The airworthiness limitations and maintenance requirements for the Falcon 2000 type design are included in Dassault Aviation Falcon 2000 (F2000) Aircraft Maintenance Manual (AMM) chapter 5-40 and are approved by the European Aviation Safety Agency (EASA). EASA issued AD 2008-0221 to require accomplishment of the maintenance tasks, and implementation of the airworthiness limitations, as specified in Dassault Aviation F2000 AMM chapter 5-40 at revision 12.

Since that [EASA] AD was issued, Dassault Aviation have issued F2000 AMM chapter 5-40 at revision 17, which introduces new or more restrictive maintenance requirements and/or airworthiness limitations.

Dassault Aviation AMM chapter 5-40 revision 17 contains among other changes the following requirements:

—Inspection and test of horizontal stabilizer jackscrew;

—Operational test of voltage monitoring circuits;

—Upgrade of screwjack of flap actuators from the older to the latest -3 version;

—Revised Time Between Overhaul for screwjack of flap actuators -3 version;

—Revised interval for checking the screw/nut play on screwjack of flap actuators -3 version;

—Removal of service life limit for screwjack of flap actuators;

—Test of flap asymmetry protection system. Compliance with the flap asymmetry test is required by DGAC [Direction Générale de l'Aviation Civile] France AD F-1999-038-008(B)R1. F2000 AMM chapter 5-40 at revision 17 introduces extended inspection interval;

—Inspection procedures of fuselage and wings;

—Check of overpressure tightness on pressurization control regulating valves. Compliance with this check is required by EASA AD 2008-0072. F2000 AMM chapter 5-40 at revision 17 introduces extended inspection interval.

The maintenance tasks and airworthiness limitations, as specified in the F2000 AMM chapter 5-40, have been identified as mandatory actions for continued airworthiness of the F2000 type design. Failure to comply with AMM chapter 5-40 at revision 17 might constitute an unsafe condition.

* * * * *

The required action is revising the maintenance program to incorporate all airworthiness limitations and maintenance tasks specified in Chapter 5-40, Airworthiness Limitations, Revision 18, dated July 2012, of Chapter 5, Maintenance Planning Document, of the Dassualt Falcon 2000 Maintenance Manual. You may obtain further information by examining the MCAI in the AD docket.

Explanation of Change to Applicability

We have revised the applicability of AD 2002-23-19 in this proposed AD to clarify that only Dassault Model Falcon 2000 airplanes are affected by this proposed AD and not Model Falcon 2000EX airplanes. The applicability of AD 2002-23-19 states that the AD is applicable to Dassault Model Falcon 2000 series airplanes, which includes Model Falcon 2000EX airplanes, but it was not the FAA's intent to include Model Falcon 2000EX airplanes in the applicability of that AD.

Change to Existing AD (67 FR 71452, December 2, 2002)

This proposed AD would retain all requirements of AD 2002-23-19. Since AD 2002-23-19 was issued, the AD format has been revised, and certain paragraphs have been rearranged. As a result, the corresponding paragraph identifiers have changed in this proposed AD, as listed in the following table:

Revised Paragraph Identifiers
Requirement in AD 2002-23-19, Amendment 39-12963 (67 FR 71452, December 2, 2002) | Corresponding requirement in this proposed AD
paragraph (a) | paragraph (g)
paragraph (b) | paragraph (h)(1)
paragraph (c) | paragraph (h)(2)
paragraph (d) | paragraph (h)(3)
paragraph (e) | paragraph (h)(4)
paragraph (f) | paragraph (i)(1)
paragraph (g) | paragraph (i)(2)
paragraph (h) | paragraph (i)(3)

Relevant Service Information

Dassault has issued Chapter 5-40, Airworthiness Limitations, Revision 18, dated July 2012, of Chapter 5, Maintenance Planning Document, of the Dassualt Falcon 2000 Maintenance Manual. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (m) of this proposed AD. The request should include a description of changes to the required inspections that will ensure the continued operational safety of the airplane.

Costs of Compliance

Based on the service information, we estimate that this proposed AD would affect about 229 products of U.S. registry.

The actions that are required by AD 2002-23-19, and retained in this proposed AD, take about 17 work-hours per product, per test/replacement cycle, at an average labor rate of $85 per work hour. Required parts cost about $21,680 per product, per replacement cycle. Based on these figures, the estimated cost of the currently required actions is $23,125 per product, per test/replacement cycle.

We estimate that it would take about 1 work-hour per product to comply with the new basic requirements of this proposed AD. The average labor rate is $85 per work-hour. Based on these figures, we estimate the cost of the proposed AD on U.S. operators to be $19,465, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2002-23-19, Amendment 39-12963 (67 FR 71452, December 2, 2002), and adding the following new AD:

Dassault Aviation: Docket No. FAA-2013-0466; Directorate Identifier 2012-NM-156-AD.

(a) Comments Due Date

We must receive comments by August 26, 2013.

(b) Affected ADs

This AD supersedes AD 2002-23-19, Amendment 39-12963 (67 FR 71452, December 2, 2002). Certain requirements of this AD terminate certain requirements of AD 2010-26-05, Amendment 39-16544 (75 FR 79952).

(c) Applicability

This AD applies to Dassault Aviation Model FALCON 2000 airplanes, certificated in any category, all serial numbers.

(d) Subject

Air Transport Association (ATA) of America Code 05, Time limits and maintenance checks.

(e) Reason

This AD was prompted by manufacturer revisions to the airplane maintenance manual (AMM) that introduces new or more restrictive maintenance requirements and airworthiness limitations. We are issuing this AD to prevent reduced controllability of the airplane.

(f) Compliance

You are responsible for having the actions required by this AD performed within the compliance times specified, unless the actions have already been done.

(g) Retained Requirement: Repetitive Operational Test

This paragraph restates the requirements of paragraph (a) of AD 2002-23-19, Amendment 39-12963 (67 FR 71452, December 2, 2002), with revised repair approval. Within 5 flight cycles after August 11, 1999 (the effective date of AD 99-14-07, Amendment 39-11218 (64 FR 36561, July 7, 1999)): Perform an operational test of the flap asymmetry detection system to ensure that the system is functioning correctly, in accordance with the procedures specified in Dassault Falcon 2000 Airplane Maintenance Manual (AMM) 27-502, dated November 1995. Prior to further flight, repair any discrepancy detected, in accordance with a method approved by the Manager, International Branch, ANM-116, FAA, Transport Airplane Directorate; the Direction Générale de l'Aviation Civile (or its delegated agent); or the European Aviation Safety Agency (EASA) (or its delegated agent). Repeat the operational test thereafter at intervals not to exceed 330 flight hours or 7 months, whichever occurs first, until the maintenance program revision required by paragraph (j) of this AD is accomplished.

(h) Retained Requirement: Repetitive Replacement

This paragraph restates the requirements of paragraphs (b), (c), (d), and (e) of AD 2002-23-19, Amendment 39-12963 (67 FR 71452, December 2, 2002), with terminating action.

(1) Prior to the accumulation of 1,000 total flight cycles on the inboard jackscrew located on the inboard flap in the inboard position, or within 25 flight cycles after August 11, 1999 (the effective date of AD 99-14-07, Amendment 39-11218 (64 FR 36561, July 7, 1999)), whichever occurs later: Replace each jackscrew having part number (P/N) 5318-1 or 5318-1 Amdt A, which is located on the inboard flap in the inboard position, in accordance with Dassault Falcon 2000 AMM 27-510, dated November 1995. The replacement jackscrew may be new or may have been reconditioned in accordance with paragraph (h)(2) of this AD. Repeat the replacement of a jackscrew having P/N 5318-1 or 5318-1 Amdt A thereafter at intervals not to exceed 1,000 flight cycles on the jackscrew located on the inboard flap in the inboard position, until the maintenance program revision required by paragraph (j) of this AD is accomplished.

(2) A jackscrew having P/N 5318-1 and located on the inboard flap in the inboard position may be replaced by a reconditioned jackscrew having P/N 5318-1 Amdt A, provided that all of the conditions specified in paragraphs (h)(1) and (h)(2) of this AD are met.

(i) The jackscrew has been reconditioned and reidentified as P/N 5318-1 Amdt A, in accordance with Dassault Service Bulletin AVIAC 5318-27-01, dated September 16, 1999.

(ii) The jackscrew has been reconditioned only one time.

(3) Prior to the accumulation of 2,200 total flight cycles on the middle jackscrew located on the inboard flap and in the outboard position, or within 25 flight cycles after August 11, 1999 (the effective date of AD 99-14-07, Amendment 39-11218 (64 FR 36561, July 7, 1999)), whichever occurs later: Replace each jackscrew having P/N 5318-1 or 5318-1 Amdt A on the inboard flap and in the outboard position, in accordance with Dassault Falcon 2000 AMM 27-510, dated November 1995. The replacement jackscrew may be new or may have been reconditioned in accordance with paragraph (h)(4) of this AD. Repeat the replacement of a jackscrew having P/N 5318-1 or 5318-1 Amdt A thereafter at intervals not to exceed 2,200 flight cycles on the jackscrew located on the inboard flap and in the outboard position, until the maintenance program revision required by paragraph (j) of this AD is accomplished.

(4) A jackscrew having P/N 5318-1 and located on the inboard flap and in the outboard position may be replaced by a reconditioned jackscrew having P/N 5318-1 Amdt A, provided that all of the conditions specified in paragraphs (h)(4)(i) and (h)(4)(ii) of this AD are met.

(i) The jackscrew has been reconditioned and reidentified as P/N 5318-1 Amdt A, in accordance with Dassault Service Bulletin AVIAC 5318-27-01, dated September 16, 1999.

(ii) The jackscrew has been reconditioned only one time.

(i) Retained Requirement: Repetitive Measurements

This paragraph restates the requirements of paragraphs (f), (g), and (h) of AD 2002-23-19, Amendment 39-12963 (67 FR 71452, December 2, 2002), with terminating action added.

(1) Prior to the accumulation of 1,000 total flight cycles on the outboard jackscrews located on the outboard flaps, or within 25 flight cycles after August 11, 199 (the effective date of AD 99-14-07, Amendment 39-11218 (64 FR 36561, July 7, 1999)), whichever occurs later: Measure the screw/nut play of the jackscrews having P/N 1-5319-1 or 1-5319-1 Amdt A (on the left wing) and P/N 2-5319-1 or 2-5319-1 Amdt A (on the right wing) on the outboard flaps, in accordance with the procedures specified in Dassault Falcon 2000 AMM Temporary Revision (TR) 27-504, dated October 1998. Repeat the measurement as specified in paragraph (i)(1) of this AD until the maintenance program revision required by paragraph (j) of this AD is accomplished.

Note 1 to paragraph (i)(1) of this AD: Jackscrews having P/N 1-5319-1 or 2-5319-1 may be reconditioned in accordance with Dassault Service Bulletin AVIAC 5319-27-01, dated September 16, 1999. These jackscrews may be reconditioned and reused more than one time.

(i) If the initial measurement is equal to or less than 0.014 inch: Repeat the measurement thereafter at intervals not to exceed 330 flight hours or 7 months, whichever occurs first. If any repetitive measurement detects a nut/screw play greater than 0.014 inch, perform the actions required by paragraph (i)(1)(ii) of this AD.

(ii) If the initial measurement is greater than 0.014 inch: Perform the actions required by paragraphs (i)(1)(ii)(A) and (i)(1)(ii)(B) of this AD.

(A) Prior to further flight, replace the jackscrew with a new or reconditioned jackscrew, in accordance with Dassault Falcon 2000 AMM 27-510, dated November 1995.

(B) Prior to the accumulation of 1,000 total flight cycles on the new or reconditioned jackscrew, perform a follow-on measurement of the screw/nut play, in accordance with the procedures specified in Dassault Falcon 2000 AMM TR 27-504, dated October 1998.

(C) If any follow-on measurement required by paragraph (i)(1)(ii)(B) of this AD detects a nut/screw play equal to or less than 0.014 inch, perform the actions required by paragraph (i)(1) of this AD. If any follow-on measurement required by paragraph (i)(1)(ii)(B) of this AD detects a nut/screw play greater than 0.014 inch, perform the actions required by paragraphs (i)(1)(ii)(A) and (i)(1)(ii)(B) of this AD.

(2) Prior to the accumulation of 750 total flight cycles on the jackscrew located on the inboard flap in the inboard position, or within 25 flight cycles after the effective date of this AD, whichever occurs later: Measure the screw/nut play of the jackscrew having P/N 5318-1 or 1-5318-1 Amdt A, which is located on the inboard flap in the inboard position, to detect discrepancies, in accordance with the procedures specified in Dassault Falcon 2000 AMM TR 27-504, dated October 1998. If the measurement is greater than 0.014 inch, prior to further flight, replace the discrepant jackscrew with a new or reconditioned jackscrew, in accordance with Dassault Falcon 2000 AMM 27-510, dated November 1995.

(3) Prior to the accumulation of 1,000 total flight cycles on the jackscrew located on the inboard flap in the outboard position, or within 25 flight cycles after the effective date of this AD, whichever occurs later: Measure the screw/nut play of the jackscrew having P/N 5318-1 or 5318-1 Amdt A, which is located on the inboard flap in the outboard position, in accordance with the procedures specified in Dassault Falcon 2000 AMM TR 27-504, dated October 1998.

(i) If the initial measurement is equal to or less than 0.014 inch: Repeat the measurements thereafter at intervals not to exceed 330 flight hours or 7 months, whichever occurs first. If repetitive measurement detects a nut/screw play greater than 0.014 inch, perform the actions required by paragraph (i)(3)(ii)(B) of this AD.

(ii) If the initial measurement is greater than 0.014 inch: Perform the actions required by paragraphs (i)(3)(ii)(A) and (i)(3)(ii)(B) of this AD.

(A) Prior to further flight, replace the jackscrew with a new or reconditioned jackscrew, in accordance with Dassault Falcon 2000 AMM 27-510, dated November 1995.

(B) Prior to the accumulation of 1,000 total flight cycles on the new or reconditioned jackscrew, perform a follow-on measurement of the screw/nut play, in accordance with the procedures specified in Dassault Falcon 2000 AMM TR 27-504, dated October 1998.

(C) If any follow-on measurement required by paragraph (i)(3)(ii)(B) of this AD detects a nut/screw play equal to or less than 0.014 inch, perform the actions required by paragraph (i)(3)(i) of this AD. If any follow-on measurement required by paragraph (i)(3)(ii)(B) of this AD detects a nut/screw play greater than 0.014 inch, perform the actions required by paragraphs (i)(3)(ii)(A) and (i)(3)(ii)(B) of this AD.

(j) New Requirement of This AD: Revision of the Maintenance Program

Within 30 days after the effective date of this AD, revise the maintenance program to incorporate the information specified in Chapter 5-40, Airworthiness Limitations, Revision 18, dated July 2012, of Chapter 5, Maintenance Planning Document, of the Dassault Falcon 2000 Maintenance Manual. The initial compliance time for the tasks are at the applicable times specified in Chapter 5-40, Airworthiness Limitations, Revision 18, dated July 2012, of Chapter 5, Maintenance Planning Document, of the Dassault Falcon 2000 Maintenance Manual, or within 30 days after the effective date of this AD, whichever occurs later. Accomplishing the requirements of this paragraph terminates the applicable requirements of paragraphs (g), (h), and (i) of this AD. Clarification of compliance time terminology used in the tables in the service information is provided in paragraphs (j)(1) through (j)(5) of this AD.

(1) The term “landings” in the “First Inspection” column of any table in the service information specified in paragraph (j) of this AD means total airplane landings.

(2) The term “flight hours” in the “First Inspection” column of any table in the service information specified in paragraph (j) of this AD means total flight hours.

(3) The term “flight cycles” in the “First Inspection” column of any table in the service information specified in paragraph (j) of this AD means total flight cycles.

(4) For Task 30-11-09-350-801 30-103 identified in the service information specified in paragraph (j) of this AD, the initial compliance time is prior to the accumulation of 2,400 total flight hours or 2,000 total flight cycles, or within 2,400 flight hours or 2,000 flight cycles after the effective date of this AD, whichever occurs first; or within 30 days after the effective date of this AD; whichever occurs later.

(5) For Task 52-20-00-610-801-01 52-205 identified in the service information specified in paragraph (j) of this AD, the initial compliance time is 24 months after the effective date of this AD.

(6) The limited service life of part number F2MA721512100 is 3,750 total flight cycles on the part or 6 years since the manufacturing date of the part, whichever occurs first.

(k) Terminating Action for a Certain AD

Accomplishment of the actions required by paragraph (j) of this AD terminates the requirements of paragraph (g) of AD 2010-26-05, Amendment 39-16544 (75 FR 79952, December 21, 2010), for all Dassault Aviation Model FALCON 2000 airplanes.

(l) No Alternative Actions or Intervals

After accomplishing the revision required by paragraph (j) of this AD, no alternative actions (e.g., inspections) or intervals may be used unless the actions or intervals are approved as an alternative method of compliance in accordance with the procedures specified in paragraph (m)(1) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone 425-227-1137; fax 425-227-1137. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(n) Related Information

(1) Refer to MCAI European Aviation Safety Agency Airworthiness Directive 2012-0156, dated August 23, 2012; and Chapter 5-40, Airworthiness Limitations, Revision 18, dated July 2012, of Chapter 5, Maintenance Planning Document, of the Dassualt Falcon 2000 Maintenance Manual; for related information.

(2) For service information identified in this AD, contact Dassault Falcon Jet, P.O. Box 2000, South Hackensack, NJ 07606; telephone 201-440-6700; Internet http://www.dassaultfalcon.com. You may review copies of the referenced service information at the FAA, Transport Airplane Directorate, 1601 Lind Avenue SW., Renton, WA. For information on the availability of this material at the FAA, call 425-227-1221.

Issued in Renton, Washington, on June 14, 2013.
Ali Bahrami,
Manager, Transport Airplane Directorate, Aircraft Certification Service.

[FR Doc. 2013-15952 Filed 7-11-13; 8:45 am]

BILLING CODE 4910-13-P